DEPARTMENT OF COMMERCE

National Oceanic and Atmospheric Administration

50 CFR Part 622

[I.D. 092403I]

Fisheries of the Caribbean, Gulf of Mexico, and South Atlantic; Reef Fish Fishery Management Plan; Red Grouper Fishery of the Gulf of Mexico; Environmental Assessment for Secretarial Amendment 1

AGENCY: National Marine Fisheries Service, National Oceanic and Atmospheric Administration (NOAA), Commerce.

ACTION: Notice announcing preparation of an environmental assessment (EA).

SUMMARY: NOAA Fisheries is preparing an EA, in accordance with the National Environmental Policy Act (NEPA), for Secretarial Amendment 1 to the Reef Fish FMP.

FOR FURTHER INFORMATION CONTACT: Phil Steele, telephone: 727-570-5305, fax: 727-570-5583, e-mail: Phil.Steele@noaa.gov

SUPPLEMENTARY INFORMATION: Red grouper in the Gulf of Mexico were declared to be overfished and undergoing overfishing by NOAA Fisheries in October 2000. Secretarial Amendment 1 was developed to establish a rebuilding plan. As the actions being considered were likely to have significant social and economic impacts under NEPA, a Draft Supplemental Environmental Impact Statement (DSEIS) was planned instead of initially preparing a less comprehensive EA. A Notice of Intent to prepare this DSEIS was published in the Federal Register on February 15, 2002 (32 FR 7123).

In September 2002, the Council's Reef Fish Stock Assessment Panel reviewed a new red grouper stock assessment prepared by the Southeast Fishery Science Center. The 2002 assessment confirmed the previous conclusion that red grouper were overfished in 1997, but found that the stock was in an improved condition by 2001. However, it had not yet reached the level needed to produce maximum sustainable yield on a continuing basis (BMSY). Therefore, a rebuilding plan is still needed. Because the current (2001) stock biomass is closer to BMSY than the biomass in 1997, a less restrictive rebuilding plan is needed to attain BMSY within 10 years or less. The original version of this Secretarial Amendment proposed a rebuilding plan divided into 3-year intervals. For the first 3-year interval, the original plan called for a 45-percent reduction from the 1990-2001 average harvest, with harvest levels in subsequent years to be determined by future stock assessments. In the current version, a 9.5-percent reduction from the 1999-2001 average harvest is the first 3-year target.

The proposed actions in Secretarial Amendment 1 are not presently expected to have a significant impact on the human environment. Consequently, NOAA Fisheries is initially preparing an EA, rather than proceeding directly to a DSEIS, in support of Secretarial Amendment 1 to the Reef Fish FMP. If the EA results in a Finding of No Significant Impact (FONSI), the EA and FONSI will be the final environmental documents required by NEPA. If the EA reveals that significant environmental impacts may be reasonably expected to result from the proposed actions, NOAA Fisheries will prepare a DSEIS to further evaluate those impacts.

This announcement is intended to inform the public of the change from preparation of a DSEIS to preparation of an EA for Secretarial Amendment 1 to the Reef Fish FMP.

Authority: 16 U.S.C. 1801 et seq.

Dated: September 29, 2003.
Bruce C. Morehead,
Acting Director, Office of Sustainable Fisheries, National Marine Fisheries Service.

[FR Doc. 03-25147 Filed 10-2-03; 8:45 am]

BILLING CODE 3510-22-S